INTERNATIONAL TRADE COMMISSION

[Investigation No. 337-TA-843]

Certain Electronic Devices Having a Retractable USB Connector; Institution of Investigation Pursuant to 19 U.S.C. 1337

AGENCY: U.S. International Trade Commission.

ACTION: Notice.

SUMMARY: Notice is hereby given that a complaint was filed with the U.S. International Trade Commission on April 18, 2012, under section 337 of the Tariff Act of 1930, as amended, 19 U.S.C. 1337, on behalf of Anu IP LLC of Longview, Texas. The complaint alleges violations of section 337 based upon the importation into the United States, the sale for importation, and the sale within the United States after importation of certain electronic devices having a retractable USB connector by reason of infringement of certain claims of U.S. Patent No. 6,979,210 (“the `210 patent”) and U.S. Patent No. 7,090,515 (“the `515 patent). The complaint further alleges that an industry in the United States exists or is in the process of being established as required by subsection (a)(2) of section 337.

The complainant requests that the Commission institute an investigation and, after the investigation, issue an exclusion order and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2011).

Scope of Investigation: Having considered the complaint, the U.S. International Trade Commission, on May 17, 2012, ordered that—

(1) Pursuant to subsection (b) of section 337 of the Tariff Act of 1930, as amended, an investigation be instituted to determine whether there is a violation of subsection (a)(1)(B) of section 337 in the importation into the United States, the sale for importation, or the sale within the United States after importation of certain electronic devices having a retractable USB connector that infringe one or more of claims 1-4, 7, and 8 of the `210 patent and claims 1-4, 7, and 8 of the `515 patent, and whether an industry in the United States exists as required by subsection (a)(2) of section 337;

(2) For the purpose of the investigation so instituted, the following are hereby named as parties upon which this notice of investigation shall be served:

(a) The complainant is:

Anu IP LLC, 3301 W. Marshal Ave., Suite 303, Longview, TX 75604.

(b) The respondents are the following entities alleged to be in violation of section 337, and are the parties upon which the complaint is to be served:

AIPTEK International, Inc., 19 Industry E Rd. 4, Hsinchu Science Park, Hsinchu, Taiwan.

Aluratek, Inc., 14831 Myford Rd. Ste A, Tustin, CA 92780.

Archos S.A., 12, rue Ampère, 91430 Igny, France.

Archos, Inc., 7951 E. Maplewood Ave. #260, Greenwood Village, CO 80111.

Bluestar Alliance LLC, 1370 Broadway, Ste 1107, New York, NY 10018.

Centon Electronics, Inc., 27412 Aliso Viejo Parkway, Aliso Viejo, CA 92656.

Coby Electronics Corporation, 1991 Marcus Ave., Lake Success, NY 11042.

Corsair Memory, Inc., 46221 Landing Parkway, Fremont, CA 94538.

Emtec Electronics, Inc., 7607 Green Meadows Dr., Lew Center, OH 43035.

General Imaging Company, 2411 W. 190th Street #550, Torrance California, 90504.

Huawei Technology Company, Ltd., Huawei Industrial Base, Shenzhen 518129, China.

Iriver, Inc., 39 Peters Canyon Road, Irvine, CA 92606.

JVC Kenwood Corporation, 3-12, Moriyacho, Kanagawa-ku, Yokohama-shi, Kanagawa 221-8528, Japan.

JVC Americas Corporation, 1700 Valley Road, Suite 1, Wayne, NJ 07470.

Latte Communications, Inc., 675 E. Brokaw Road, San Jose, CA 95112.

Lexar Media, Inc., 47300 Bayside Parkway, Fremont, CA 94538.

Maxell Corporation of America, Inc., 3 Garrett Mountain Plaza, 3rd Floor, Woodland Park, NJ 07424.

Hitachi Maxell, Ltd., 1-1-88, Ushitora, Ibaraki, Osaka 567-8567, Japan.

Office Depot, Inc., 6600 North Military Trail, Boca Raton, Florida 33496.

Olympus Corporation, Shinjuku Monolith, 3-1 Nishi-Shinjuku, 2-chome, Shinjuku-ku, Tokyo 163-0914, Japan.

Olympus Corporation of the Americas, 3500 Corporate Pkwy, Center Valley, PA 18034.

Option NV, Gaston Geenslaan 14, 3001 Leuven, Belgium.

Option, Inc., Morris Road 13010, Alpharetta, GA 30004.

Panasonic Corporation, 1006 Oaza Kadoma, Kadoma, Osaka 571-8501, Japan.

Panasonic Corporation North America, 1 Panasonic Way, Secaucus, NJ 07094.

Patriot Memory LLC, 47027 Benicia Street, Fremont, CA 94538.

Provantage LLC, 7249 Whipple Avenue NW., North Canton, OH 44720.

RITEK Corporation, No. 42, Kuan-Fu N. Road, Hsin-Chu Industrial Park, 30316, Taiwan.

Advanced Media, Inc. dba RITEK U.S.A., 1440 Bridgegate Drive, Suite 395, Diamond Bar, CA 91765.

Sakar International, Inc., 195 Carter Drive, Edison, NJ 08817.

Samsung Electronics Co., Ltd., 130-10, Seocho 2-dong, Seochu-gu, Seoul, Republic of Korea.

Samsung Electronics America, 105 Challenger Road, Ridgefield, NJ 07660.

Sanyo Electric Co., Ltd., 5-5, Keihan-Hondori 2-chome, Moriguchi City, Osaka 570-8677, Japan.

Sanyo North America Corporation, 2055 Sanyo Avenue, San Diego, CA 92154.

Silicon Power Computer and Comm., Inc., 7F, No. 106, Zhouzi St., Neihu Dist., Taipei City 114, Taiwan.

Silicon Power Computer and Comm. USA, Inc., 10455 Bandley Dr. #300, Cupertino, CA 95014.

Supersonic, Inc., 6555 Bandini Boulevard, Commerce, CA 90040.

Super Talent Technology Corporation, 2077 North Capitol Avenue, San Jose, CA 95132.

Toshiba Corporation, 1-1, Shibaura 1-chome, Minato-ku, Tokyo 105-8001, Japan.

Toshiba America, Inc., 1251 Avenue of the Americas, Ste. 4110, New York, NY 10020.

ViewSonic Corporation, 381 Brea Canyon Road, Walnut, CA 91789.

VOXX International Corporation, 180 Marcus Boulevard, Hauppauge, NY 11788.

Audiovox Accessories Corporation, 111 Congressional Boulevard, Carmel, IN 46032.

Yamaha Corporation, 10-1, Nakazawa-cho, Naka-ku, Hamamatsu, Shizuoka 430-8650, Japan.

Yamaha Corporation of America, 6600 Orangethorpe Avenue, Buena Park, CA 90620.

(c) The Office of Unfair Import Investigations, U.S. International Trade Commission, 500 E Street SW., Suite 401, Washington, DC 20436; and

(3) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

Issued: May 17, 2012.
By order of the Commission.
James R. Holbein,
Secretary to the Commission.

[FR Doc. 2012-12597 Filed 5-23-12; 8:45 am]

BILLING CODE 7020-02-P